DEPARTMENT OF ENERGY

Federal Energy Regulatory Commission

[Docket No. CP01-445-000]

El Paso Natural Gas Company; Notice of Request Under Blanket Authorization

September 27, 2001.

Take notice that on September 21, 2001, El Paso Natural Gas Company (El Paso), Post Office Box 1087, Colorado Springs, Colorado 80904, filed in Docket No. CP01-445-000 a request pursuant to Sections 157.205 and 157.216 of the Commission's Regulations under the Natural Gas Act (18 CFR 157.205 and 157.216) for authorization to abandon, in place, a 17.23 mile segment of the Globe-Miami First Loop Line, located in Hidalgo County, New Mexico, under El Paso's blanket certificate issued in Docket No. CP82-435-000 pursuant to Section 7 of the Natural Gas Act, all as more fully set forth in the request which is on file with the Commission and open to public inspection. This filing may be viewed on the Web at http://www.ferc.gov using the “RIMS” link, select “Docket #” from the RIMS Menu and follow the instructions (please call 202-208-2222 for assistance).

El Paso proposes to abandon, in place, approximately 17.23 miles of the 6-inch diameter Globe-Miami First Loop Line (Line No. 2005), between Block Valve